DEPARTMENT OF ENERGY

Federal Energy Regulatory Commission

Combined Notice of Filings #3

Take notice that the Commission received the following electric rate filings:

Docket Numbers: ER25-386-002.

Applicants: Midcontinent Independent System Operator, Inc., Ameren Illinois Company.

Description: Tariff Amendment: Ameren Illinois Company submits tariff filing per 35.17(b): 2024-02-06_SA 4385 and SA 4386_Ameren IL-Mt. Carmel 2nd Sub WCA and UCA to be effective 1/7/2025.

Filed Date: 2/6/25.

Accession Number: 20250206-5111.

Comment Date: 5 p.m. ET 2/27/25.

Docket Numbers: ER25-1234-000.

Applicants: Algonquin Power Sanger LLC.

Description: Compliance filing: Notice of Succession and Request for Waiver to be effective 1/8/2025.

Filed Date: 2/6/25.

Accession Number: 20250206-5101.

Comment Date: 5 p.m. ET 2/27/25.

Docket Numbers: ER25-1235-000.

Applicants: Algonquin SKIC 10 Solar, LLC.

Description: Compliance filing: Notice of Succession and Request for Waiver to be effective 1/8/2025.

Filed Date: 2/6/25.

Accession Number: 20250206-5104.

Comment Date: 5 p.m. ET 2/27/25.

Docket Numbers: ER25-1236-000.

Applicants: California Independent System Operator Corporation.

Description: § 205(d) Rate Filing: 2025-02-06 Tariff Amendment to Implement Order No. 881 to be effective 12/31/9998.

Filed Date: 2/6/25.

Accession Number: 20250206-5107.

Comment Date: 5 p.m. ET 2/27/25.

Docket Numbers: ER25-1237-000.

Applicants: Algonquin SKIC 20 Solar, LLC.

Description: Compliance filing: Notice of Succession and Request for Waiver to be effective 1/8/2025.

Filed Date: 2/6/25.

Accession Number: 20250206-5110.

Comment Date: 5 p.m. ET 2/27/25.

Docket Numbers: ER25-1238-000.

Applicants: PJM Interconnection, L.L.C.

Description: § 205(d) Rate Filing: Designated Entity Agreement, SA No. 7481 between PJM and BGE to be effective 1/7/2025.

Filed Date: 2/6/25.

Accession Number: 20250206-5117.

Comment Date: 5 p.m. ET 2/27/25.

Docket Numbers: ER25-1239-000.

Applicants: PJM Interconnection, L.L.C.

Description: § 205(d) Rate Filing: Designated Entity Agreement, SA No. 7482 between PJM and PEPCO to be effective 1/7/2025.

Filed Date: 2/6/25.

Accession Number: 20250206-5119.

Comment Date: 5 p.m. ET 2/27/25.

Docket Numbers: ER25-1240-000.

Applicants: Cheyenne Light, Fuel and Power Company.

Description: § 205(d) Rate Filing: Standard LGIA with NextEra Energy Resources Interconnection Holdings, LLC to be effective 1/14/2025.

Filed Date: 2/6/25.

Accession Number: 20250206-5137.

Comment Date: 5 p.m. ET 2/27/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

Dated: February 6, 2025.
Carlos D. Clay,
Deputy Secretary.

[FR Doc. 2025-02530 Filed 2-11-25; 8:45 am]

BILLING CODE 6717-01-P